NATIONAL SCIENCE FOUNDATION

Notice of Permit Application Received Under the Antarctic Conservation Act of 1978

AGENCY: National Science Foundation.

ACTION: Notice of permit applications received under the antarctic conservation act.

SUMMARY: Notice is hereby given that the National Science Foundation (NSF) has received a waste management permit application for operation of remote field camps during a skiing/climbing expedition in the Antarctic interior. The application is submitted to NSF pursuant to regulations issued under the Antarctic Conservation Act of 1978.

DATES: Interested parties are invited to submit written data, comments, or views with respect to this permit application by November 19, 2004. Permit applications may be inspected by interested parties at the Permit Office, address below.

ADDRESSES: Comments should be addressed to Permit Office, Room 755, Office of Polar Programs, National Science Foundation, 4201 Wilson Boulevard, Arlington, VA 22230.

FOR FURTHER INFORMATION CONTACT: Nadene Kennedy at the above address or (703) 292-8030.

SUPPLEMENTARY INFORMATION: NSF's Antarctic Waste Regulation, 45 CFR part 671, requires all U.S. citizens and entities to obtain a permit for the use or release of a designated pollutant in Antarctica, and for the release of waste in Antarctica. NSF has received a permit application under this Regulation for the operation of an expedition to Antarctica. Ice Axe Productions, Inc. plans to conduct various climbing and camping expeditions to a selection of mountains and peaks within Antarctica over the next 5 seasons. This season 3 experienced climbers and photographers will climb Mt. Tyree in the Ellsworth Mountains. The team will travel from Punta Arenas, Chile to the Patriot Hills, then by Twin Otter to Mt. Tyree where they will set up a base camp. The team's camping facilities will be basic and mobile. The team will use white gas for cooking. All wastes will be collected and transported back to Punta Arenas, Chile for disposition.

Application for the permit is made by: Doug Stoup, President, Ice Axe Productions, Inc., 17580 Walden Drive, Truckee, CA 96161.

Location: Patriot Hills, and various mountains and peaks within Antarctica. During the 2004-05 season, Mt. Tyree, Ellsworth Mountain range.

Dates: November 1, 2005 to February 28, 2009.

Nadene G. Kennedy,
Permit Officer.

[FR Doc. 04-23465 Filed 10-19-04; 8:45 am]

BILLING CODE 7555-01-M